COMMITTEE FOR PURCHASE FROM PEOPLE WHO ARE BLIND OR SEVERELY DISABLED

Procurement List; Additions and Deletion

AGENCY: Committee for Purchase from People Who Are Blind or Severely Disabled.

ACTION: Additions to and deletion from Procurement List.

SUMMARY: This action adds to the Procurement List products and services to be furnished by nonprofit agencies employing persons who are blind or have other severe disabilities, and deletes from the Procurement List a service previously furnished by such agencies.

EFFECTIVE DATE: March 28, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On December 19, and December 29, 2003, the Committee for Purchase From People Who Are Blind or Severely Disabled published notice (68 FR 70760, and 74942) of proposed additions to the Procurement List.

After consideration of the material presented to it concerning capability of qualified nonprofit agencies to provide the products and services and impact of the additions on the current or most recent contractors, the Committee has determined that the products and services listed below are suitable for procurement by the Federal government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the government.

2. The action will result in authorizing small entities to furnish the products and services to the government.

3. There are no known regulatory alternatives which would accomplish the objectives of the Javits-Wagner-O'Day Act (41 U.S.C. 46-48c) in connection with the products and services added to the Procurement List.

End of Certification

Accordingly, the following products and services are added to the Procurement List:

Products

Product/NSN: Ranger Load Carrying System (RLCS).

8470-00-NSH-0018—Chest Harness Adapter (Individual Component).

8415-00-NSH-1129—Ranger Load Carrying System.

8415-00-NSH-1130—Individual RLCS Kit.

8415-00-NSH-1131—Rifle Squad RLCS Kit.

8415-00-NSH-1132—Weapons Squad RLCS Kit.

8415-00-NSH-1133—Sniper RLCS Kit.

8415-00-NSH-1134—Medic RLCS Kit.

8415-00-NSH-1135—Regimental Recon Detachment RLCS Kit.

8415-00-NSH-1136—Radio Pocket (Individual component).

8415-00-NSH-1137—War Belt Suspender (Individual component).

8415-00-NSH-1138—Horizontal Pouch Adapter (Individual component).

8415-00-NSH-1139—Squad Casualty Bag (Individual component).

8415-00-NSH-1140—RLCS Kit Bag (Individual component).

8415-00-NSH-1141—Sub Belt Holster Adapter (Individual component).

NPA: Chautauqua County Chapter, NYSARC, Jamestown, New York.

Contract Activity: U.S. Army Robert Morris Acquisition Center, Natick, Massachusetts.

Services

Service Type/Location: Administrative Service, National Park Service, 12795 W. Alameda Parkway, Lakewood, Colorado.

NPA: Bayaud Industries, Inc., Denver, Colorado.

Contract Activity: National Park Service, Lakewood, Colorado.

Service Type/Location: Custodial Services, VA Medical Center, 50 Irving Street, NW., Washington, DC.

NPA: Opportunities, Inc., Alexandria, Virginia.

Contract Activity: Department of Veterans Affairs, Washington, DC.

Deletion

On December 29, 2003, the Committee for Purchase From People Who Are Blind or Severely Disabled published notice (68 FR 74943) of proposed deletion to the Procurement List. After consideration of the relevant matter presented, the Committee has determined that the service listed below is no longer suitable for procurement by the Federal government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the service to the government.

3. There are no known regulatory alternatives which would accomplish the objectives of the Javits-Wagner-O'Day Act (41 U.S.C. 46-48c) in connection with the service deleted from the Procurement List.

End of Certification

Accordingly, the following service is deleted from the Procurement List:

Service

Service Type/Location: Document Processing, Defense Reutilization and Marketing Office, McClellan AFB, California.

NPA: PRIDE Industries, Roseville, California.

Contract Activity: Department of the Air Force, McClellan AFB, California.

Sheryl D. Kennerly,
Director, Information Management.

[FR Doc. 04-4366 Filed 2-26-04; 8:45 am]

BILLING CODE 6353-01-P